DEPARTMENT OF THE TREASURY

Submission for OMB Review; Comment Request

July 25, 2016.

The Department of the Treasury will submit the following information collection requests to the Office of Management and Budget (OMB) for review and clearance in accordance with the Paperwork Reduction Act of 1995, Public Law 104-13, on or after the date of publication of this notice.

DATES: Comments should be received on or before August 29, 2016 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submissions may be obtained by emailing PRA@treasury.gov, calling (202) 622-1295, or viewing the entire information collection request at www.reginfo.gov.

Internal Revenue Service (IRS)

OMB Control Number: 1545-0096.

Type of Review: Extension of a currently approved collection.

Title: Dividend Equivalents from Sources within the United States REG-120282-10 (TD 9734) & Forms 1042, 1042-S and 1042-T.

Form: Forms 1042, 1042-S, 1042-T.

Abstract: Form 1042 is used to report tax withheld under chapter 3 of the Internal Revenue Code (IRC) on certain income of foreign persons, including nonresident aliens, foreign partnerships, foreign corporations, foreign estates, and foreign trusts; tax withheld under chapter 4 on withholdable payments; tax withheld pursuant to Code section 5000C on specified federal procurement payments; and payments that are reported on Form 1042-S under chapters 3 or 4. Form 1042-T is used to transmit paper Forms 1042-S, Foreign Person's U.S. Source Income Subject to Withholding, to the IRS.

Affected Public: Businesses or other for-profits.

Estimated Total Annual Burden Hours: 2,945,594.

OMB Control Number: 1545-0145.

Type of Review: Extension of a currently approved collection.

Title: Notice to Shareholder of Undistributed Long-Term Capital Gains.

Form: Form 2439.

Abstract: Form 2439 is used to provide shareholders of a regulated investment company (RIC) or a real estate investment trust (REIT) the amount of undistributed long-term capital gains.

Affected Public: Businesses or other for-profits.

Estimated Total Annual Burden Hours: 29,995.

OMB Control Number: 1545-0160.

Type of Review: Extension of a currently approved collection.

Title: Form 3520-A, Annual Information Return of Foreign Trust With a U.S. Owner.

Form: Form 3520-A.

Abstract: Form 3520-A is the annual information return of a foreign trust with at least one U.S. owner. The form provides information about the foreign trust, its U.S. beneficiaries, and any U.S. person who is treated as an owner of any portion of the foreign trust under the grantor trust rules (as described in IRC sections 671 through 679).

Affected Public: Individuals or households.

Estimated Total Annual Burden Hours: 21,700.

OMB Control Number: 1545-0755.

Type of Review: Extension of a currently approved collection.

Title: Related Group Election With Respect to Qualified Investments in Foreign Base Company Shipping Operations.

Abstract: Treasury Decision (TD) 7959 contains final income tax regulations relating to the election made by a related group to determine foreign base company shipping income and qualified investments in foreign base company shipping operations on a related group basis. The information collection involves the requirement for a U.S. shareholder to provide a statement to make the election.

Affected Public: Businesses or other for-profits.

Estimated Total Annual Burden Hours: 205.

OMB Control Number: 1545-1341.

Type of Review: Reinstatement of a previously approved collection.

Title: TD 8619 (Final) (EE-43-92l) Direct Rollovers and 20-Percent Withholding Upon Eligible Rollover Distributions From Qualified Plans.

Abstract: TD 8619 contains final regulations relating to eligible rollover distributions from tax-qualified retirement plans and section 403(b) annuities.

Affected Public: Individuals or households.

Estimated Total Annual Burden Hours: 643,369.

OMB Control Number: 1545-1450.

Type of Review: Extension of a currently approved collection.

Title: Debt Instructions With Originals Issue Discount; Contingent Payments; Anti-Abuse Rule (TD 8674).

Abstract: The collections of information contained in the final regulations in TD 8674 are required to determine a taxpayer's interest income or deductions on a contingent payment debt instrument.

Affected Public: Businesses or other for-profits.

Estimated Total Annual Burden Hours: 89,000.

OMB Control Number: 1545-1660.

Type of Review: Reinstatement of a previously approved collection.

Title: Notice 99-43, Nonrecognition Exchanges under Section 897.

Abstract: The collections of information required by this notice are in Temp. Reg. § 1.897-6T(a)(1) and 1.897-5T(d)(1)(iii), Treas. Reg. § 1.1445-2(d)(2)(i)(A) and Temp. Reg. § 1.1445-9T. This information will be used to obtain exemptions from tax under certain nonrecognition transactions and to satisfy reporting requirements regarding these nonrecognition transactions. This information will be used by the IRS to verify whether a taxpayer is entitled to exemption from tax under a nonrecognition transaction.

Affected Public: Individuals or households; Businesses or other for-profits.

Estimated Total Annual Burden Hours: 200.

Brenda Simms,
Treasury PRA Clearance Officer.

[FR Doc. 2016-17885 Filed 7-27-16; 8:45 am]

BILLING CODE 4830-01-P